SECURITIES AND EXCHANGE COMMISSION

[Release No. 34-45679; File Nos. SR-NASD-2002-21; SR-NYSE-2002-09]

Self-Regulatory Organizations: Notice of Extension of the Comment Period for the Proposed Rule Changes by the National Association of Securities Dealers, Inc. and the New York Stock Exchange, Inc. Relating to Research Analyst Conflicts of Interest

April 2, 2002.

On February 13, 2002, the National Association of Securities Dealers, Inc. (“NASD” or “Association”), through its wholly owned subsidiary, NASD Regulation, Inc. (“NASDR”), and on February 27, 2002, the New York Stock Exchange, Inc. (“NYSE” or “Exchange”), filed with the Securities and Exchange Commission (“SEC” or “Commission”) proposed rule changes, pursuant to Section 19(b)(1) of the Securities Exchange Act of 1934 (“Act”)¹ and Rule 19b-4 thereunder,² relating to research analyst conflicts of interest. A complete description of the proposed rule changes is found in the notice of filing, which was published in the Federal Register on March 14, 2002.³ The comment period expires on April 4, 2002. The Commission has decided to extend the comment period pursuant to Section 19(b)(2) of the Act.⁴ Accordingly, the comment period shall be extended until April 18, 2002.

¹ 15 U.S.C. 78s(b)(1).

² 17 CFR 240.19b-4.

³ See Securities Exchange Act Release No. 45526 (March 8, 2002), 67 FR 11526.

⁴ 15 U.S.C. 78s(b)(2).

Interested persons are invited to submit written data, views, and arguments concerning the foregoing, including whether the proposed rule changes are consistent with the Act. Persons making written submissions should file six copies thereof with the Secretary, Securities and Exchange Commission, 450 Fifth Street, NW, Washington, DC 20549-0609. Copies of the submission, all subsequent amendments, all written statements with respect to the proposed rule changes that are filed with the Commission, and all written communications relating to the proposed rule changes between the Commission and any person, other than those that may be withheld from the public in accordance with the provisions of 5 U.S.C. 552, will be available for inspection and copying in the Commission's Public Reference Room. Copies of such filing will also be available for inspection and copying at the principal offices of the Self-Regulatory Organizations. All submissions should refer to File Nos. SR-NASD-2002-21 and SR-NYSE-2002-09 and should be submitted by April 18, 2002.

For the Commission, by the Division of Market Regulation, pursuant to delegated authority.⁵
⁵ 17 CFR 200.30-3(a)(12).
Margaret H. McFarland,
Deputy Secretary.

[FR Doc. 02-8302 Filed 4-3-02; 8:45 am]

BILLING CODE 8010-01-P